NATIONAL SCIENCE FOUNDATION

Mathematical and Physical Sciences Advisory Committee; Notice of Meeting

In accordance with Federal Advisory Committee Act (Pub. L. 92-463, as amended), the National Science Foundation announces the following meeting:

Name: Mathematical and Physical Sciences Advisory Committee (66).

Date/Time: April 6, 2007; 9 a.m.-12 p.m.

Place: Teleconference, National Science Foundation, Room 1235, 4201 Wilson Boulevard, Arlington, VA 22230.

Type of Meeting: Open.

Contact Person: Dr. Morris L. Aizenman, Senior Science Associate, Directorate for Mathematical and Physical Sciences, National Science Foundation, Room 1005, 4201 Wilson Boulevard, Arlington, VA 22230; (703) 292-8807.

Purpose of Meeting: To provide advice and recommendations concerning NSF science and education activities within the Directorate for Mathematical and Physical Sciences.

Agenda: Budget and Planning, Report of the Committee of Visitors for the Division of Chemistry, Report of the Committee of Visitors for the Division of Mathematical Sciences.

Summary Minutes: May be obtained from the contact person listed above.

Dated: March 6, 2007.
Susanne E. Bolton,
Committee Management Officer.

[FR Doc. E7-4227 Filed 3-8-07; 8:45 am]

BILLING CODE 7555-01-P